FEDERAL MINE SAFETY AND HEALTH REVIEW COMMISSION

Sunshine Act Meeting

April 5, 2012.

TIME AND DATE: 10 a.m., Tuesday, April 17, 2012.

PLACE: The Richard V. Backley Hearing Room, 9th Floor, 601 New Jersey Avenue NW., Washington, DC

STATUS: Open.

MATTERS TO BE CONSIDERED: The Commission will hear oral argument in the matter Long Branch Energy v. Secretary of Labor, Docket Nos. WEVA 2009-1492-R, et al. (Issues include whether the judge erred in denying motions to dismiss late-filed petitions for assessment of civil penalties.)

Any person attending this oral argument who requires special accessibility features and/or auxiliary aids, such as sign language interpreters, must inform the Commission in advance of those needs. Subject to 29 CFR 2706.150(a)(3) and 2706.160(d).

CONTACT PERSON FOR MORE INFORMATION: Jean Ellen (202) 434-9950/(202) 708-9300 for TDD Relay/1-800-877-8339 for toll free.

Emogene Johnson,
Administrative Assistant.

[FR Doc. 2012-8654 Filed 4-6-12; 11:15 am]

BILLING CODE 6735-01-P